DEPARTMENT OF HEALTH AND HUMAN SERVICES

National Institutes of Health

National Institute of Biomedical Imaging and Bioengineering; Notice of Closed Meeting

Pursuant to section 1009 of the Federal Advisory Committee Act, as amended, notice is hereby given of the following meeting of the National Advisory Council for Biomedical Imaging and Bioengineering.

The meeting will be held virtually and open to the public as indicated below. Individuals who plan to attend the virtual meeting and need special assistance, such as sign language interpretation or other reasonable accommodation, should notify the Contact Person listed below in advance of the meeting. The meeting can be accessed from the NIH Videocast at the following links: http://videocast.nih.gov/ or https://www.nibib.nih.gov/about-nibib/advisory-council.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Council for Biomedical Imaging and Bioengineering.

Date: January 28, 2026.

Open: 12:00 p.m. to 4:00 p.m.

Agenda: Report from the Institute Director, Council Members and other Institute staff.

Address: National Institutes of Health, DEM II, Suite 200, 6707 Democracy Boulevard, Bethesda, MD 20817.

Meeting Format: Virtual Meeting.

Closed: 4:10 p.m. to 5:00 p.m.

Agenda: To review and evaluate grant applications and/or proposals.

Address: National Institutes of Health, DEM II, Suite 200, 6707 Democracy Boulevard, Bethesda, MD 20817.

Meeting Format: Virtual Meeting.

Contact Person: Anna Taylor, Ph.D., Associate Director for Research Administration, Office of Research Administration, National Institute of Biomedical Imaging and Bioengineering, 6707 Democracy Boulevard, Bethesda, MD 20892, (240) 402-5683, anna.taylor@nih.gov.

The meeting identified below has been scheduled in the event the Council is unable to complete all agenda items identified for the January 28, 2026, meeting. Information on the agenda items and/or the necessity to hold the meeting listed below will be posted on the Institute/Center homepage (link identified below).

Name of Committee: National Advisory Council for Biomedical Imaging and Bioengineering.

Date: March 19, 2026.

Closed: 12:00 p.m. to 3:00 p.m.

Agenda: To review and evaluate grant applications and/or proposals not completed at the January meeting.

Address: National Institutes of Health, DEM II, Suite 200, 6707 Democracy Boulevard, Bethesda, MD 20817.

Meeting Format: Virtual Meeting.

Contact Person: Anna Taylor, Ph.D., Associate Director for Research Administration, Office of Research Administration, National Institute of Biomedical Imaging and Bioengineering, 6707 Democracy Boulevard, Bethesda, MD 20892, (240) 402-5683, anna.taylor@nih.gov.

Any interested person may file written comments with the committee by forwarding the statement to the Contact Person listed on this notice. The statement should include the name, address, telephone number and when applicable, the business or professional affiliation of the interested person.

Information is also available on the Institute's/Center's home page: https://www.nibib.nih.gov/about-nibib/advisory-council, where an agenda and any additional information for the meeting will be posted when available.

(Catalogue of Federal Domestic Assistance Program Nos. 93.866, National Institute of Biomedical Imaging and Bioengineering, National Institutes of Health.)

Dated: December 18, 2025.
Margaret Vardanian,
Program Analyst, Office of Federal Advisory Committee Policy.

[FR Doc. 2025-23598 Filed 12-19-25; 8:45 am]

BILLING CODE 4140-01-P